DEPARTMENT OF THE INTERIOR

Bureau of Land Management

[UT-080-1430-ES; UTU-79052]

Classification and Conveyance of Public Lands for Shooting Range Purposes, Uintah County, UT

AGENCY: Bureau of Land Management, Interior.

ACTION: Notice of realty action.

SUMMARY: Public lands located in Uintah County, Utah, have been examined and found suitable for classification for lease or conveyance to Uintah County under the provisions of the Recreation and Public Purposes Act as amended (43 U.S.C. 869 et seq.) for a public shooting range complex.

FOR FURTHER INFORMATION CONTACT: Naomi Hatch, BLM Realty Specialist at (435) 781-4454.

SUPPLEMENTARY INFORMATION: Uintah County proposes to use the following described public lands in Uintah County, Utah to construct, operate and maintain a public shooting range complex. The land is not needed for Federal purposes. Leasing or conveying title to the affected public land is consistent with current BLM land use planning and would be in the public's interest.

Salt Lake Meridian, Utah

T. 4 S., R. 22 E.,

Sec. 3, Lots 2, 3, 4, W½NE¼SW¼NE¼,W½SW¼NE¼, S½NW¼, SW¼, NE¼NW¼NW¼SE¼, W½W½NW¼SE¼, W½W½SW¼SE¼.

Sec. 4, Lots 1, E½SE¼SW¼NE¼, SE¼NE¼SW¼NE¼, SE¼NE¼, E½E½NW¼SE¼, E½SW¼SW¼SE¼, E½SW¼SE¼, E½SE¼, SW¼SW¼SW¼SE¼.

Sec. 9, NE, N½N½SE¼, N½S½N½SE¼.

Sec. 10, W½W½NE¼, NW¼, N½N½SW¼, N½S½N½SW¼, W½NW¼NW¼SE¼, NW¼SW¼NW¼SE¼.

Containing 1074.92 acres, more or less.

The lease or patent, when issued, would be subject to the following terms conditions and reservations:

1. Provisions of the Recreation and Public Purposes Act and all applicable regulations of the Secretary of the Interior.

2. All minerals shall be reserved to the United States, together with the right to prospect for, mine, and remove the minerals.

3. A right-of-way for ditches or canals constructed by the authority of the United States.

4. Those rights for a natural gas pipeline granted by right-of-way UTU-018084 to Questar Gas Company.

5. Those rights for a telephone line granted by right-of-way UTU-09017 to Qwest Corporation.

6. Those rights for a natural gas pipeline granted by right-of-way UTU-049527 to Questar Gas Company and Questar Regulated Service Company.

7. Those rights for road purposes granted by right-of-way UTU-73611 to Uintah County.

8. Any other valid and existing rights of record not yet identified.

9. A cultural resource site will be fenced outside of the project area and be shielded by the proposed tree line.

10. If any vertebrate fossils are discovered during construction of the proposed shooting range complex, work shall cease and a BLM permitted paleontologist should be called in to evaluate the find.

11. Sign the fence boundary on the shooting range clearly stating “Do Not Enter—Live Fire Arms being Discharged within this Boundary”.

12. Design projects should blend with topographic forms and existing vegetation patterns in shape and placement, and use both to screen developments. Color selection chart will be furnished to Uintah County.

Upon publication of this notice in the Federal Register, the public lands described above are segregated from all other forms of appropriation under the public land laws, including the general mining laws and leasing under the mineral leasing laws, except for leasing or conveyance under the Recreation and Public Purposes Act. For a period of 45 days from the date of publication of this Notice, interested parties may submit comments regarding the proposed classification, leasing or conveyance of the land to the Field Manager, Bureau of Land Management Vernal Field Office, 170 South 500 East, Vernal, Utah 84078.

Classification Comments

Interested parties may submit comments regarding the suitability of the land for a shooting range complex. Comments on the classification are restricted to whether the land is physically suited for the proposal, whether the use will maximize the future use or uses of the land, whether the use is consistent with local planning and zoning, or if the use is consistent with State and Federal programs.

Application Comments

Interested parties may submit comments regarding the specific use proposed in the application, whether the BLM followed proper administrative procedures in reaching the decision, or any other factor not directly related to the suitability of the land for a shooting range. Any adverse comments will be reviewed by the State Director. In the absence of any adverse comments, the classification will become effective 60 days from the date of publication in the Federal Register.

William Stringer,
Field Manager.

[FR Doc. 05-14945 Filed 7-27-05; 8:45 am]

BILLING CODE 4310-$$-P